DEPARTMENT OF COMMERCE

National Oceanic and Atmospheric Administration

50 CFR Part 223

[Docket No. 050323081-5081-01; I.D. 031505C]

RIN 0648-AT02

Endangered and Threatened Species: Extension of Public Comment Period on Proposed Listing Determination for the Southern Distinct Population Segment of North American Green Sturgeon

AGENCY: National Marine Fisheries Service (NMFS), National Oceanic and Atmospheric Administration (NOAA), Commerce.

ACTION: Proposed rule; extension of public comment period.

SUMMARY: In April 2005, NMFS proposed to list the Southern Distinct Population Segment (DPS) of the North American green sturgeon (Acipenser medirostris; hereafter “green sturgeon”) as threatened under the Endangered Species Act. NMFS is extending the public comment period on the proposed listing determination until July 27, 2005.

DATES: The due date for written comments is extended to July 27, 2005.

ADDRESSES: You may submit comments on the proposed rule by any of the following methods:

• E-mail: GreenSturgeon.Comments@noaa.gov.

• Federal e-Rulemaking Portal: http://www.regulations.gov. Follow the instructions for submitting comments.

• Mail: Submit written comments to Chief, Protected Resources Division, Southwest Region, National Marine Fisheries Service, 501 West Ocean Blvd., Suite 4200, Long Beach, CA, 90802-4213.

• Fax: 562-980-4027.

The updated green sturgeon status review and other reference materials related to the proposed rule can be obtained via the Internet at: http://www.swr.noaa.gov. The updated status review and list of references are also available by submitting a request to the Assistant Regional Administrator, Protected Resources Division, Southwest Region, NMFS, 501 West Ocean Blvd., Suite 4200, Long Beach, CA 90802-4213, or the Assistant Regional Administrator, Protected Resources Division, Northwest Region, NMFS, 1201 NE Lloyd Avenue, Suite 1100, Portland, OR 97232.

FOR FURTHER INFORMATION CONTACT: Melissa Neuman, NMFS, Southwest Region (562) 980-4115; Scott Rumsey, NMFS, Northwest Region (503) 872-2791; or Lisa Manning, NMFS, Office of Protected Resources (301) 713-1401.

SUPPLEMENTARY INFORMATION:

Background

On April 6, 2005, NMFS published a proposed ESA listing determination for the Southern DPS of green sturgeon (70 FR 17386). The proposed rule was based on: information showing that spawning adults are concentrated into one spawning river (i.e., Sacramento River), thus, increasing the risk of extirpation due to catastrophic events; threats that remain severe and have not been adequately addressed by conservation measures currently in place; fishery-independent data exhibiting a negative trend in juvenile green sturgeon abundance; and information showing evidence of lost spawning habitat in the upper Sacramento and Feather Rivers. With the publication of the proposed listing determination, NMFS announced a 90-day public comment period ending on July 5, 2005. On June 20, NMFS announced that it would hold a public hearing (70 FR 35391) on July 6 in Sacramento, CA, and extended the public comment period to July 6 to coincide with the public hearing.

Extension of Public Comment Period

NMFS has received a request from a U.S. Department of the Interior to extend the public comment period by 2 weeks. In this notice NMFS is extending the public comment period by three weeks, and now comments will be accepted until July 27, 2005.

References

Copies of the Federal Register notices and related materials cited in this document are available on the Internet at http://swr.noaa.gov, or upon request (see ADDRESSES).

Authority: 16 U.S.C. 1531 et seq.

Dated: June 30, 2005.
Wanda L. Cain,
Acting Director, Office of Protected Resources, National Marine Fisheries Service.

[FR Doc. 05-13264 Filed 7-5-05; 8:45 am]

BILLING CODE 3510-22-S